COMMITTEE FOR PURCHASE FROM PEOPLE WHO ARE BLIND OR SEVERELY DISABLED

Procurement List; Additions

AGENCY: Committee for Purchase From People Who Are Blind or Severely Disabled.

ACTION: Additions to procurement list.

SUMMARY: This action adds to the Procurement List services to be furnished by nonprofit agencies employing persons who are blind or have other severe disabilities.

DATES: Effective Date: 9/28/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/29/2009 (74 FR 25717-25718); 6/12/2009 (74 FR 28028); 6/19/2009 (74 FR 29187-29189); 6/26/2009 (74 FR 30531-30532) and 7/10/2009 (74 FR 33211-33212); the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services:

Service Type/Location: Food Service & Mess Attendants, Seabee Camp, Covington Guam Support Facility, Resident NMCB, Santa Rita, Guam.

NPA: Able Industries of the Pacific, Santa Rita, Guam.

Contracting Activity: Dept of the Navy, FISC Pearl Harbor, HI.

The Federal Register identifies the services as “Food Service” and “Mess Attendants,” which are programmatic methods to identify the services provided by nonprofit agencies employing people who are blind or who have other severe disabilities within the AbilityOne Program. While the Randolph-Sheppard Act provides entrepreneurial management opportunities for blind vendors, under normal circumstances it does not afford them priority for food service, mess attendant and other services supporting the operation of a military dining facility short of management responsibilities. The Committee determines that the information provided in the Federal Register Notice is sufficiently clear to identify the services sought. There is no R-SA Program in place on Guam at this time.

Service Type/Location: Dining Facility Attendant Service, Fort Bragg, NC.

NPA: Employment Source, Inc., Fayetteville, NC.

Contracting Activity: Dept of the Army, XR W6BB Ft Bragg, NC.

The Federal Register identifies the services as “Dining Facility Attendant Service” which is the programmatic method to identify the services provided by nonprofit agencies employing people who are blind or who have other severe disabilities within the AbilityOne Program. While the Randolph-Sheppard Act provides entrepreneurial opportunities for blind vendors, under normal circumstances it does not afford them priority for food service attendant opportunities supporting the operation of a military dining facility short of management responsibilities. The Committee determines that the information provided in the Federal Register Notice is sufficiently clear to identify the services sought. Based on the information available, the Committee may determine that this service is appropriate for the AbilityOne Program.

Service Type/Location: Secure Document Destruction, Federal Law Enforcement Training Center, 1300 W. Richey Ave., Artesia, NM.

NPA: Adelante Development Center, Inc., Albuquerque, NM.

Contracting Activity: Federal Law Enforcement Training Center, Department Of Homeland Security, Artesia, NM.

Service Type/Location: Laundry Service, 111 Elwyn Road (NPA Facility), Elwyn, PA.

NPA: Elwyn, Inc., Aston, PA.

Contracting Activity: Department of Veterans Affairs, Veterans Administration Medical Center, Wilmington, DE.

Service Type/Location: Custodial Services,

York VA Outpatient Clinic, 2251 Eastern Boulevard, York, PA.

NPA: Goodwill Services, Inc., Harrisburg, PA.

Contracting Activity: Department of Veterans Affairs, Lebanon, PA.

Service Type/Location: Housekeeping Services, Fort Custer Education Center, 2501 26th Street, Augusta, MI.

NPA: Navigations, Inc., Battle Creek, MI.

Contracting Activity: Dept of the Army, XRAW8AC MIARNG Element, JF HQ, Lansing, MI.

Service Type/Location: Food Service Attendant, Joint Dining Facility, Selfridge Air National Guard, Selfridge ANG Base, MI.

NPA: New Horizons Rehabilitation Services, Inc., Auburn Hills, MI.

Contracting Activity: Dept of the Army, XRA W39L USA NG Readiness Center, Selfridge ANG Base, MI.

The Federal Register identifies the services as “Food Service Attendant” which is the programmatic method to identify the services provided by nonprofit agencies employing people who are blind or who have other severe disabilities within the AbilityOne Program. While the Randolph-Sheppard Act provides entrepreneurial opportunities for blind vendors, under normal circumstances it does not afford them priority for food service attendant opportunities supporting the operation of a military dining facility short of management responsibilities. The Committee determines that the information provided in the Federal Register Notice is sufficiently clear to identify the services sought. Based on the information available, the Committee may determine that this service is appropriate for the AbilityOne Program.

Service Type/Location: Janitorial Services, Pacific Heights Entrance Point, Facility Number 1300, San Pedro, CA.

Pacific Crest Entrance Point, Facility Number 1200, San Pedro, CA.

Fort MacArthur, 2400 South Pacific Ave, San Pedro, CA.

Service Type/Location: Base Wide Janitorial Service, Los Angeles Air Force Base, 2420 Vela Way, El Segundo, CA.

Service Type/Location: Hospital Housekeeping Service, 61st Medical Squadron Medical Clinic, Building 30, San Pedro, CA.

NPA: Goodwill Industries of Southern California, Los Angeles, CA.

Contracting Activity: Dept of the Air Force, FA2816 61 CONS LGC, El Segundo, CA.

Service Type/Location: Custodial Services, Basewide, Robins AFB, GA.

NPA: Good Vocations, Inc., Macon, GA.

Contracting Activity: Dept of the Air Force, FA8501 WR ALC PKO, Robins AFB, GA.

Service Type/Location: Consolidated Base Operation Support (BOS), Naval & Marine Corps Reserve Center, 1600 Lafayette Ave, Moundsville, WV, 3938 Old French Road, Erie, PA, 1400 Postal Drive, Allentown, PA, 261 Industrial Park Road, Edensburg, PA, 625 East Pittsburgh McKeesport Blvd., North Versailles, PA, 3920 Kirkwood Highway, Wilmington, DE.

Naval Reserve Center, 1200 Navy Way Road, Avoca, PA.

Marine Corps Reserve Center, 615 Kenhorst Boulevard, Reading, PA.

NPA: Human Technologies Corporation, Utica, NY.

Contracting Activity: Dept of the Navy, U S Fleet Forces Command, Norfolk, VA.

Service Type/Location: Dining Attendant Services, Basewide Naval Air Station Whidbey Island, WA.

NPA: New Leaf, Inc., Oak Harbor, WA.

Naval Base Kitsap (Basewide Bremerton and Bangor), WA, Fleet & Industrial Supply Center FISC, Puget Sound, Bremerton, WA.

NPA: Skookum Educational Programs, Bremerton, WA.

Contracting Activity: Dept of the Navy, FISC Puget Sound, Bremerton, WA.

Service Type/Location: Mess Attendant Services, Patterson Dining Facility, Building 403, Dover AFB, DE.

NPA: Opportunity Center, Incorporated, Wilmington, DE.

Contracting Activity: Dept of the Air Force, FA4497 436 CONS LGC, Dover AFB, DE.

The Federal Register identifies the services as “Dining Service Attendant” and “Mess Service Attendant”, which are historical and programmatic methods to identify the services provided by nonprofit agencies employing people who are blind or with other severe disabilities within the AbilityOne Program. While the Randolph-Sheppard Act provides entrepreneurial opportunities for blind vendors, it does not include food service attendant opportunities reserved for the AbilityOne Program. Thus, the information provided in the Federal Register notice is sufficiently clear to identify the services sought and precludes those services from being procured under the Randolph-Sheppard Act.

Barry S. Lineback,
Director, Business Operations.

[FR Doc. E9-20777 Filed 8-27-09; 8:45 am]

BILLING CODE 6353-01-P